DEPARTMENT OF AGRICULTURE

Forest Service

White Pine-Nye Resource Advisory Committee

AGENCY: Forest Service, USDA.

ACTION: Notice of meeting.

SUMMARY: The White Pine-Nye Resource Advisory Committee (RAC) will meet in Eureka, Nevada. The Committee is authorized under the Secure Rural Schools and Community Self-Determination Act of 2000 (the Act) (Pub. L. 112-141) and operates in compliance with the Federal Advisory Committee Act (FACA) (Pub. L. 92-463). The purpose of the RAC is to improve collaborative relationships and to provide advice and recommendations to the Forest Service concerning projects and funding consistent with the Title II of the Act. The meeting is open to the public. The purpose of the meeting is:

(1) Review and approve previous meeting minutes and business expenses;

(2) Review and recommend funding allocations for proposed projects; and

(3) Public Comments.

DATES: The meeting will be held September 23, 2013 and will begin at 9:00 a.m., Pacific Standard Time.

All RAC meetings are subject to change or cancellation. For status of the White Pine-Nye RAC meetings prior to attending each meeting, contact the RAC Coordinator listed under For Further Information Contact.

ADDRESSES: The meeting will be held at the Eureka County Annex, 701 S. Main Street, Eureka, Nevada. Written comments may be submitted as described under Supplementary Information. All comments, including names and addresses when provided, are placed in the record and are available for public inspection and copying. The public may inspect comments received at the Tonopah Ranger District Office. Visitors are encouraged to call ahead to facilitate entry into the building.

FOR FURTHER INFORMATION CONTACT: Linda Bernardi, RAC Coordinator, at 775-482-6286 or by email lebernardi@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: Additional information, including the agenda, for the White Pine-Nye RAC is at Web site: https://fsplaces.fs.fed.us/fsfiles/unit/wo/secure_rural_schools.nsf. The meeting summary will be posted at the Web site within 21 days of the meeting. Anyone who would like to bring related matters to the attention of the RAC may file written statements with the RAC before or after the meeting. The agenda will include time for people to make oral statements of three minutes or less. Individuals wishing to make an oral statement should request in writing by September 16, 2013 to be scheduled on the agenda. Written comments and requests for time for oral comments should be sent to Linda Bernardi, RAC Coordinator, Tonopah Ranger District, P.O. Box 3940, Tonopah, Nevada 89049; comments may also be sent via email to lebernardi@fs.fed.us, or via facsimile to 775-482-3053.

Meeting Accommodations: If you are a person requiring reasonable accommodation, please make a request in advance for sign language interpreting, assistive listening devices or other reasonable accommodation for access to the facility or proceedings by contacting the person listed under FOR FURTHER INFORMATION CONTACT. All reasonable accommodation requests are managed on a case by case basis.

Dated: August 16, 2013.
William A. Dunkelberger,
Forest Supervisor.

[FR Doc. 2013-20588 Filed 8-22-13; 8:45 am]

BILLING CODE 3410-11-P